DEPARTMENT OF THE INTERIOR

Fish and Wildlife Service

FWS-R6-R-2009-N218; 60138-1265-6CCP-S3]

Quivira National Wildlife Refuge, Stafford, KS

AGENCY: Fish and Wildlife Service, Interior.

ACTION: Notice of intent to prepare a comprehensive conservation plan and environmental assessment. Request for comments.

SUMMARY: We, the U.S. Fish and Wildlife Service (Service), intend to prepare a comprehensive conservation plan (CCP) and environmental assessment (EA) for Quivira National Wildlife Refuge in Stafford, Kansas. We provide this notice in compliance with our CCP policy to advise other Federal and State agencies, Tribes, and the public of our intentions, and to obtain suggestions and information on the scope of issues to consider in the planning process.

DATES: To ensure consideration, please send your written comments by March 26, 2010. We will hold public meetings to begin the CCP planning process; see Public Meetings under SUPPLEMENTARY INFORMATION for dates, times, and locations.

ADDRESSES: Send your comments or requests for more information by any of the following methods.

E-mail: quivira@fws.gov. Include “Quivira CCP” in the subject line of the message.

Fax: Attn: Toni Griffin, Planning Team Leader, 303/236-4792.

U.S. Mail: Toni Griffin, Planning Team Leader, Division of Refuge Planning, 134 Union Blvd., Lakewood, CO 80225.

In-Person Drop-off: You may drop off comments during regular business hours at the above address, or at the Quivira National Wildlife Refuge office located at 1434 NE 80th Street, Stafford, KS 67578.

FOR FURTHER INFORMATION CONTACT: Toni Griffin, 303-236-4378 (phone); or David C. Lucas, Chief, Division of Planning, P.O. Box 25486, Denver Federal Center, Denver, CO 80228.

SUPPLEMENTARY INFORMATION:

Introduction

With this notice, we initiate our process for developing a CCP for Quivira National Wildlife Refuge in Stafford, KS. This notice complies with our CCP policy to (1) advise other Federal and State agencies, Tribes, and the public of our intention to conduct detailed planning on this refuge and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the National Wildlife Refuge System was established for specific purposes. We use these purposes as the foundation for developing and prioritizing the management goals and objectives for each refuge within the National Wildlife Refuge System, and to determine how the public can use each refuge. The planning process is a way for us and the public to evaluate management goals and objectives that will ensure the best possible approach to wildlife, plant, and habitat conservation, while providing for wildlife-dependent recreation opportunities that are compatible with each refuge's establishing purposes and the mission of the National Wildlife Refuge System.

Our CCP process provides participation opportunities for Tribal, State, and local governments; agencies; organizations; and the public. At this time we encourage input in the form of issues, concerns, ideas, and suggestions for the future management of the Quivira National Wildlife Refuge.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

Quivira National Wildlife Refuge

The Quivira NWR was established in 1955 to provide wintering and migration stopover habitat for migratory birds along the Central Flyway of North America. The refuge has two purposes:

(1) “For use as an inviolate sanctuary, or for any other management purpose, for migratory birds” (Migratory Bird Conservation Act); and

(2) “For the development, advancement, management, conservation, and protection of fish and wildlife resources for the benefit of the United States Fish and Wildlife Service” (Fish and Wildlife Act of 1956).

The refuge is located in Stafford, Rice, and Reno Counties, Kansas. Wetlands, large and small, are present throughout the refuge; there are approximately 7,000 acres of wetlands with slightly to moderately saline water. Thousands of Canada geese, ducks, and other migratory birds, such as sandhill cranes and shorebirds, use these wetlands as they pass through the refuge on their annual migrations. The refuge provides numerous opportunities for the public including hunting, fishing, wildlife observation and photography, interpretation, and environmental education for students and visitors.

Scoping: Preliminary Issues, Concerns, and Opportunities

We have identified preliminary issues, concerns, and opportunities that we may address in the CCP. During public scoping, we may identify additional issues.

We request input as to which issues affecting management or public use should be addressed during the planning process. We are especially interested in receiving public input in the following areas:

(a) What do you value most about this refuge?

(b) What problems or issues do you see affecting management of this refuge?

(c) What changes, if any, would you like to see in the management of this refuge?

We provide the above questions for your optional use. We have no requirement that you provide information; however, any comments the planning team receives will be used as part of the planning process.

Public Meetings

We will hold the following public meetings. For more, contact the person under FOR FURTHER INFORMATION CONTACT.

Date | Time | Location
March 8, 2010 | 4-7 p.m. | Stafford Senior Center, 103 South Main, Stafford, KS 67578.
March 9, 2010 | 4-7 p.m. | Front Door Community Center, 1615 Tenth Street, Great Bend, KS 67530.
March 10, 2010 | 4-7 p.m. | Great Plains Nature Center, 6232 East 29th Street North, Wichita, KS 67220-2200.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: December 14, 2009.
Hugh Morrison,
Acting Regional Director, Region 6.

[FR Doc. 2010-3588 Filed 2-23-10; 8:45 am]

BILLING CODE 4310-55-P